DEPARTMENT OF HEALTH AND HUMAN SERVICES

Centers for Disease Control and Prevention

[Program Announcement 03017]

Systems-Based Diabetes Prevention and Control Programs (DPCPS); Notice of Availability of Funds; Amendment

A notice announcing the availability of fiscal year (FY) 2003 funds for cooperative agreements for Systems-Based Diabetes Prevention and Control Programs (DPCPs) was published in the Federal Register on November 25, 2002, Vol. 67, No. 227, pages 70602-70611. The notice is amended as follows:

On page 70608, Column 2, Section “G. Application Submission and Deadline,” Paragraph “Submission Date, Time, and Address,” Line 2, delete the date “January 9, 2003” and replace with “January 17, 2003.”

Some terminology used for this program has changed. Throughout the document, delete the term “Core” and replace with “Capacity Building.” Delete the term “Tier 1” and replace with “Capacity Building.” Delete the term “Comprehensive” and replace with “Basic Implementation.” Delete the term “Tier 2” and replace with “Basic Implementation.”

Dated: December 12, 2002.
Sandra R. Manning,
Director, Procurement and Grants Office, Centers for Disease Control and Prevention.

[FR Doc. 02-32681 Filed 12-26-02; 8:45 am]

BILLING CODE 4163-18-P